DEPARTMENT OF THE TREASURY

Submission for OMB Review; Comment Request

August 21, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW, Washington, DC 20220.

DATES: Written comments should be received on or before September 29, 2003 to be assured of consideration.

Departmental Offices/Community Development Financial Institutions (CDFI) Fund

OMB Number: 1559-0006.

Form Number: CDFI-0008.

Type of Review: Revision.

Title: Community Development Financial Institutions (CDFI) Program Awardee Annual Report.

Description: For compliance purposes, the Fund requires each Awardee to annual report on certain performance goals and its financial and managerial health and soundness.

Respondents: Business or other for-profit, Not-for-profit institutions, State, Local or Tribal Government.

Estimated Number of Respondents: 600.

Estimated Burden Hours Per Respondent: 8 hours.

Frequency of Response: Annually.

Estimated Total Reporting Burden: 4,800 hours.

Clearance Officer: Lois K. Holland, Departmental Offices, Room 2110, 1425 New York Avenue, NW., Washington, DC 20220, (202) 622-1563.

OMB Reviewer: Joseph F. Lackey, Jr., Office of Management and Budget, Room 10235, New Executive Office Building, Washington, DC 20503, (202) 395-7316.

Lois K. Holland,
Treasury PRA Clearance Officer.

[FR Doc. 03-22133 Filed 8-28-03; 8:45 am]

BILLING CODE 4811-16-P